DEPARTMENT OF ENERGY

Federal Energy Regulatory Commission

Combined Notice of Filings #1

November 14, 2008.

Take notice that the Commission received the following electric rate filings:

Docket Numbers: ER08-321-002.

Applicants: New York Independent System Operator, Inc.

Description: Motion for extension of waiver and extension of Commission instruction by the New York Independent System Operator, Inc.

Filed Date: 11/12/2008.

Accession Number: 20081114-0195.

Comment Date: 5 p.m. Eastern Time on Wednesday, November 19, 2008.

Docket Numbers: ER09-185-000.

Applicants: Weyerhaeuser NR Company.

Description: Weyerhaeuser NR Co. submits a Petition for Acceptance of Initial Rate Schedule, Waivers and Blanket Authority.

Filed Date: 11/07/2008.

Accession Number: 20081110-0260.

Comment Date: 5 p.m. Eastern Time on Friday, November 28, 2008.

Docket Numbers: ER09-252-000.

Applicants: Mid-Continent Area Power Pool.

Description: Mid-Continent Area Power Pool submits clarifying revisions to FERC Electric Tariff, First Revised Volume No. 1 in compliance with Order No. 676-C.

Filed Date: 10/31/2008.

Accession Number: 20081110-0246.

Comment Date: 5 p.m. Eastern Time on Friday, November 21, 2008.

Docket Numbers: ER09-273-000.

Applicants: New York Independent System Operator, Inc.

Description: New York Independent System Operator, Inc submits tariff revisions to its Market Administration and Control Area Services Tariff to replace the current method of calculating the amount of Unforced Capacity that Limited Control Run etc.

Filed Date: 11/12/2008.

Accession Number: 20081113-0102.

Comment Date: 5 p.m. Eastern Time on Wednesday, December 3, 2008.

Docket Numbers: ER09-274-000.

Applicants: Tampa Electric Company.

Description: Tampa Electric Company submits the Operating Agreement Between Tampa Electric Company and Progress Energy Florida Corporation for the Union Hall-Trilby Interconnection, dated 10/31/08.

Filed Date: 11/12/2008.

Accession Number: 20081113-0101.

Comment Date: 5 p.m. Eastern Time on Wednesday, December 3, 2008.

Docket Numbers: ER09-275-000.

Applicants: Calpine Bethpage 3, LLC.

Description: Calpine Bethpage 3, LLC submits notice of cancellation of its FERC Electric Tariff, First Revised Volume 1.

Filed Date: 11/12/2008.

Accession Number: 20081114-0126.

Comment Date: 5 p.m. Eastern Time on Wednesday, December 3, 2008.

Docket Numbers: ER09-276-000.

Applicants: Calpine Energy Management, L.P.

Description: Calpine Energy Management, LP submits notice of cancellation of its FERC Electric Tariff, First Revised Volume 1.

Filed Date: 11/12/2008.

Accession Number: 20081114-0125.

Comment Date: 5 p.m. Eastern Time on Wednesday, December 3, 2008.

Docket Numbers: ER09-277-000.

Applicants: Calpine California Equipment Finance Company.

Description: Calpine California Equipment Finance Company, LLC submits notice of cancellation of its FERC Electric Tariff, First Revised Volume 1.

Filed Date: 11/12/2008.

Accession Number: 20081114-0124.

Comment Date: 5 p.m. Eastern Time on Wednesday, December 3, 2008.

Docket Numbers: ER09-278-000.

Applicants: Calpine Merchant Services Company, Inc.

Description: Calpine Merchant Services Company, Inc. submits notice of cancellation of its FERC Electric Tariff, First Revised Volume 1.

Filed Date: 11/12/2008.

Accession Number: 20081114-0123.

Comment Date: 5 p.m. Eastern Time on Wednesday, December 3, 2008.

Docket Numbers: ER09-280-000.

Applicants: Calpine Northbrook Energy Marketing, LLC.

Description: Calpine Northbrook Energy Marketing, LLC submits a notice of cancellation of its FERC Electric Tariff, First Revised Volume 1.

Filed Date: 11/12/2008.

Accession Number: 20081114-0122.

Comment Date: 5 p.m. Eastern Time on Wednesday, December 3, 2008.

Docket Numbers: ER09-283-000.

Applicants: Entergy Services, Inc.

Description: Entergy Operating Companies submits Eighth Revised Network Integration Transmission Service Agreement with East Texas Electric Cooperative, Inc. et al.

Filed Date: 11/12/2008.

Accession Number: 20081114-0120.

Comment Date: 5 p.m. Eastern Time on Wednesday, December 3, 2008.

Docket Numbers: ER09-287-000.

Applicants: Alliant Energy Corporate Services, Inc.

Description: Alliant Energy Corporate Services, Inc. request for waiver/suspension and notice of cancellation of Ancillary Service Schedules of Open Access Transmission Tariffs.

Filed Date: 11/12/2008.

Accession Number: 20081114-0116.

Comment Date: 5 p.m. Eastern Time on Wednesday, December 3, 2008.

Docket Numbers: ER09-290-000.

Applicants: Maine Electric Power Company, Inc.

Description: Maine Electric Power Company, Inc. et al. submits revised Attachment H of the ISO New England Open Access Transmission Tariff etc, to be effective 12/1/08 under ER09-290.

Filed Date: 11/12/2008.

Accession Number: 20081114-0174.

Comment Date: 5 p.m. Eastern Time on Wednesday, December 3, 2008.

Take notice that the Commission received the following open access transmission tariff filings:

Docket Numbers: OA07-19-004; OA07-43-005; ER07-1171-005.

Applicants: Arizona Public Service Company.

Description: Arizona Public Service Company submits its Supplemental Annual Compliance Report on Penalty Assessments and Distributions.

Filed Date: 10/30/2008.

Accession Number: 20081030-5127.

Comment Date: 5 p.m. Eastern Time on Thursday, November 20, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E8-27726 Filed 11-20-08; 8:45 am]

BILLING CODE 6717-01-P